ENVIRONMENTAL PROTECTION AGENCY

[FRL 9104-02-OA]

Announcement of the Board of Directors for the National Environmental Education Foundation; Correction

AGENCY: U.S. Environmental Protection Agency (EPA).

ACTION: Notice of appointment and re-appointment; correction.

SUMMARY: The National Environmental Education and Training Foundation (doing business as The National Environmental Education Foundation or “NEEF”) was created as a private 501(c)(3) non-profit organization. It was established by Congress as a common ground upon which leaders from business and industry, all levels of government, public interest groups, and others can work cooperatively to raise a greater national awareness of environmental issues beyond traditional classrooms.

DATES: Appointments are effective on January 13, 2022.

FOR FURTHER INFORMATION CONTACT: For information regarding this Notice of Appointment, please contact Hiram Lee Tanner III. (202) 564-4988, Director for Office of Environmental Education, U.S. EPA 1200 Pennsylvania Avenue NW, Washington, DC 20460.

SUPPLEMENTARY INFORMATION:

Correction

In the Federal Register of October 15, 2021, in the FR Doc. 2021-22494 on page 57422, column 3 correct paragraph 2 to read:

Per NEEA, the EPA Administrator appoints and reappoints eligible individuals to serve on NEEF's Board of Directors. The Administrator announces the following four-year appointments to NEEF's Board of Directors, effective 90 days after publication of the original notice:

• Dr. Robert D. Bullard, Texas Southern University

• Sally Cole, Apple

• Omar Mitchell, National Hockey League

• Arturo Garcia-Costas, The New York Community Trust

Mr. Kevin Butt, Toyota Motor North America, Inc., will be re-appointed for an additional four-year term.

Hiram Tanner,
Director, Office of Environmental Education.

[FR Doc. 2021-24007 Filed 11-3-21; 8:45 am]

BILLING CODE 6560-50-P